DEPARTMENT OF TRANSPORTATION

Federal Aviation Administration

14 CFR Part 73

[Docket No. FAA-2003-15411; Airspace Docket No. 02-ANM-15]

RIN 2120-AA66

Establishment of Restricted Area 4601 A, B, C, and D, Bearpaw; MT

ACTION: Notice of proposed rulemaking (NPRM).

SUMMARY: This action proposes to establish new restricted areas (R-4601 A, B, C, and D) in the vicinity of Bearpaw, MT, as part of a Montana Air National Guard (MANG) training initiative. The MANG has requested the airspace be established to improve current air-to-ground training efficiency for the 120th Fighter Wing (120th FW).

DATES: Comments must be received on or before January 16, 2004.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2003-15411, and Airspace Docket No. 02-ANM-15) and be submitted in triplicate to the Docket Management System, U.S. Department of Transportation, Room Plaza 401, 400 Seventh Street, SW., Washington, DC 20590-0001. You may also submit comments through the Internet at http://dms.dot.gov.

Commenters wishing the FAA to acknowledge receipt of their comments on this action must submit with those comments a self-addressed, stamped postcard on which the following statement is made: “Comments to FAA Docket No. FAA-2003-15411, and Airspace Docket No. 02-ANM-15.” The postcard will be date/time stamped and returned to the commenter. All communications received on or before the specified closing date for comments will be considered before taking action on the proposed rule. The proposal contained in this action may be changed in light of comments received.

All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see address in “Comments Invited” section) between 9 a.m. and 5 p.m., Monday through Friday, except Federal holidays. An informal docket may also be examined during normal business hours at the office of the Regional Air Traffic Division, Federal Aviation Administration, 1601 Lind Avenue, #14, SW., Renton, WA 98055.

Persons interested in being placed on a mailing list for future NPRM's should call the FAA's Office of Rulemaking, (202) 267-9677, for a copy of Advisory Circular No. 11-2A, Notice of Proposed Rulemaking Distribution System, which describes the application procedure.

History

Air National Guard units must be capable of responding to a variety of needs, wartime situations, and peacekeeping missions that were formerly assigned to the active duty Air Force. To respond to these situations rapidly and effectively, Air National Guard units must train to the same standards established for the active duty Air Force, including weapons delivery training at air-to-ground training ranges. The establishment of a training range in Montana would result in time and cost savings to the 120th FW. The 120th FW currently conducts most of its air-to-ground training at the Utah Test and Training Range. A “local” training range (within a distance of 150 nautical miles from Great Falls) would save at least 41 minutes of flying time for each mission while increasing the amount of time spent training on that mission by 38 minutes. By reducing distance traveled to conduct air-to-ground training the efficiency and effectiveness of training would be enhanced.

The Proposal

The FAA is proposing an amendment to 14 Code of Federal Regulations (CFR) part 73 (part 73) to establish R-4601 A, B, C, and D, in the vicinity Bearpaw, MT, as part of a MANG training initiative. The proposed training range would be located beneath Hays Military Operations Area (MOA) where the MANG, 120th FW currently conducts training with F-16 aircraft. The proposed airspace would consist of area “A,” a three by five statute mile impact area from the surface to 300 feet above ground level (AGL) for inert (nonexplosive) training munitions; area “B,” a 300 feet AGL to FL 180 area; area “C, “ FL 180 to FL 270; and area “D,” FL 270 to FL 310. This airspace would total approximately 22 by 18 statute miles.

Section 73.46 of part 73 of the Federal Aviation Regulations was republished in FAA Order 7400.8L dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subject to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.46 [Amended]

2. § 73.46 is amended as follows:

* * * * *

R-4601A, Bearpaw, MT (New)

Boundaries. Beginning at (lat. 48°03′33″ N, long. 108°57′07″ W); (lat. 48°03′33″ N, long. 109°03′36″ W); (lat. 48°06′09″ N, long. 109°03′36″ W); (lat. 48°06′09″ N, long. 108°57′07″ W); to point of beginning.

Designated altitudes. Surface up to, but not including, 300 feet AGL.

Time of designation. Intermittent by NOTAM.

Controlling agency. FAA, Salt Lake City ARTCC.

Using agency. 120th FW, Montana Air National Guard, Great Falls International Airport, MT.

R-4601B, Bearpaw, MT (New)

Boundaries. Beginning at (lat. 47°56′00″ N, long. 108°54′00″ W); (lat. 47°56′00″ N, long. 109°17′00″ W); (lat. 48°15′00″ N, long. 109°17′00″ W); (lat. 48°15′00″ N, long. 108°54′00″ W); to point of beginning.

Designated altitudes. 300 feet AGL up to, but not including, FL 180.

Time of designation. Intermittent by NOTAM.

Controlling agency. FAA, Salt Lake City ARTCC.

Using agency. 120th FW, Montana Air National Guard, Great Falls International Airport, MT.

R-4601C, Bearpaw, MT (New)

Boundaries. Beginning at (lat. 47°56′00″ N, long. 108°54′00″ W); (lat. 47°56′00″ N, long. 109°17′00″ W); (lat. 48°15′00″ N, long. 109°17′00″ W); (lat. 48°15′00″ N, long. 108°54′00″ W); to point of beginning.

Designated altitudes. FL 180 to FL 270.

Time of designation. Intermittent by NOTAM.

Controlling agency. FAA, Salt Lake City ARTCC.

Using agency. 120th FW, Montana Air National Guard, Great Falls International Airport, MT.

R-4601D, Bearpaw, MT (New)

Boundaries. Beginning at (lat. 47°56′00″ N, long. 108°54′00″ W); (lat. 47°56′00″ N, long. 109°17′00″ W); (lat. 48°15′00″ N, long. 109°17′00″ W); (lat. 48°15′00″ N, long. 108°54′00″ W); to point of beginning.

Designated altitudes. FL 270 to FL 310.

Time of designation. Intermittent by NOTAM.

Controlling agency. FAA, Salt Lake City ARTCC.

Using agency. 120th FW, Montana Air National Guard, Great Falls International Airport, MT.

* * * * *

Issued in Washington, DC, on November 7, 2003.
Reginald C. Matthews,
Manager, Airspace and Rules Division.

[FR Doc. 03-28617 Filed 11-14-03; 8:45 am]

BILLING CODE 4910-13-P